FEDERAL COMMUNICATIONS COMMISSION

Notice of Public Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501—3520), the Federal Communications Commission (FCC) invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and further ways to reduce the information burden for small business concerns with fewer than 25 employees.

The FCC may not conduct or sponsor a collection of information unless it displays a currently valid OMB Control Number. No person shall be subject to any penalty for failing to comply with a collection of information subject to the Paperwork Reduction Act (PRA) that does not display a valid Control Number.

DATES: Written Paperwork Reduction Act (PRA) comments should be submitted on or before January 6, 2014. If you anticipate that you will be submitting comments, but find it difficult to do so within the period of time allowed by this notice, you should advise the FCC contact listed below as soon as possible.

ADDRESSES: Submit your PRA comments to Leslie F. Smith, Federal Communications Commission (FCC), via the Internet at Leslie.Smith@fcc.gov. To submit your PRA comments by email, send them to PRA@fcc.gov.

FOR FURTHER INFORMATION CONTACT: For additional information, contact Leslie F. Smith at (202) 418-0217, or via the Internet at PRA@fcc.gov.

SUPPLEMENTARY INFORMATION: OMB Control Number: 3060-XXXX.

Title: US Telecom Forbearance FCC 13-69 Conditions.

Form Number: N/A

Type of Review: New collection.

Respondents: Business or other for-profit.

Number of Respondents and Responses: 11 respondents; 11 responses.

Estimated Time per Response: 40-232 hours.

Frequency of Response: One-time and annual reporting requirements.

Obligation to Respond: Voluntary. Statutory Authority: 47 U.S.C 160, 201, 202, 218, 254(k), and 272(e).

Total Annual Burden: 2,096 hours.

Total Annual Costs: $104,800.

Privacy Act Impact Assessment: No impact(s).

Nature and Extent of Confidentiality: If respondents submit information which respondents believe is confidential, respondents may request confidential treatment of such information pursuant to section 0.459 of the Commission's rules, 47 CFR 0.459.

Needs and Uses: In a May 2013 Memorandum Opinion and Order (FCC 13-69), the Commission acted on a petition filed by US Telecom and granted forbearance relief to the full extent supported by the record. This collection covers conditional forbearance relief granted by the Commission from cost assignment rules, property record rules, ARMIS report 43-01, and structural separation requirements for Independent ILECs. The data, information, and documents acquired through this collection will allow the Commission to meet its statutory requirements while allowing carriers to obtain forbearance relief.

Federal Communications Commission.
Marlene H. Dortch,
Secretary, Office of the Secretary, Office of Managing Director.

[FR Doc. 2013-26593 Filed 11-5-13; 8:45 am]

BILLING CODE 6712-01-P